ENVIRONMENTAL PROTECTION AGENCY

[ER-FRL-6625-6]

Environmental Impact Statements; Notice of Availability

Responsible Agency: Office of Federal Activities, General Information (202) 564-7167 or www.epa.gov/oeca/ofa.

Weekly receipt of Environmental Impact Statements Filed January 07, 2002 Through January 11, 2002 Pursuant to 40 CFR 1506.9.

EIS No. 020010, FINAL EIS, AFS, NY, Finger Lake National Forest, Oil and Gas Leasing, Exploration and Development, Approval and Authorization, Hector Ranger District, Seneca and Schuyler Counties, NY, Wait Period Ends: February 19, 2002, Contact: Martha Twarkins (607) 546-4470.

EIS No. 020011, FINAL EIS, AFS, MT, North Elkhorns Vegetation Project, Elkhorn Wildlife Management Unit, Implementation, Strawberry Butte Area, Helena National Forest, Jefferson County, MT, Wait Period Ends: February 19, 2002, Contact: Jodie Canfield (406) 266-3425.

EIS No. 020012, DRAFT EIS, AFS, AK, Otter Lake Timber Sale(s) Project, Implementation, Plan to Harvest and Sell Timber, Hoonah Ranger District, Tongass National Forest, AK, Comment Period Ends: March 04, 2002, Contact: Stan McCoy (907) 790-7431.

EIS No. 020013, DRAFT EIS, COE, FL, Lake Tohopekaliga Extreme Drawdown and Habitat Enhancement Project, Fish and Wildlife Habitat Improvements, Construction, Operation and Maintenance, Osceola County, FL, Comment Period Ends: March 04, 2002, Contact: Liz Manners (904) 232-3923.

EIS No. 020014, FINAL SUPPLEMENT, BLM, MT, Zortman and Landusky Mines Reclamation Plan, Modifications and Mine Life Extensions, Updated Information to Analyze Additional Reclamation Alternatives, Mine Operations Approval, Mine Reclamation and US Army COE Section 404 Permits Issuance, Little Rocky Mountains, Phillip County, MT, Wait Period Ends: February 19, 2002, Contact: Scott Haight (406) 538-1930.

EIS No. 020015, FINAL EIS, AFS/BLM, UT, CO, Flat Canyon Federal Coal Lease Tract (UTU-77114), Application for Leasing, Manti-La Sal National Forest, Ferron-Price Ranger District, Sanpete and Emery Counties, UT, Wait Period Ends: February 19, 2002, Contact: Carter Reed (AFS) (435) 637-2817. US Department of Agriculture's Forest (FS) and US Department of the Interior's Bureau of Land Management (BLM) are Joint Lead Agencies for the above project. The contact person for BLM is Stan Perks (801) 539-4038.

EIS No. 020016, FINAL EIS, AFS, FL, Ocklawaha River Restoration Project, Continued Occupation of Florida National Forest Lands, Portions of Kirkpatrick Dam, Rodman Reservoir and Eureka Lock and Dam in Conjunction with Partial Restoration of the Ocklawaha River, Operation and Maintenance, Special Use Permit Issuance and Implementation, Marion and Putnam Counties, FL, Wait Period Ends: February 19, 2002, Contact: George Hemingway (850) 942-9364.

EIS No. 020017, DRAFT EIS, BLM, WY, Powder River Basin Oil and Gas Project, To Extract, Transport, and Sell Oil and Natural Gas Resource, Application of Permit to Drill (APD), Special Use Permit and Right-of-Way Grant, Campbell, Converse, Johnson and Sheridan Counties, WY, Comment Period Ends: April 18, 2002, Contact: Paul Beels (307) 684-1100. This document is available on the Internet at: http://fs.fed.us/r4/payette/main.html

EIS No. 020018, DRAFT EIS, NOA, WA, CA, OR, US West Coast Fisheries for Highly Migratory Species Fishery Management Plan (FMP), Approval and Implementation, Ocean Waters off the States of Washington, Oregon and California a portion of the Exclusive Economic Zone (EEZ), WA, OR and CA, Comment Period Ends: March 04, 2002, Contact: Rod McInnis (562) 980-4000.

EIS No. 020019, FINAL EIS, NRC, UT, Skull Valley Band of Goshute Indians Reservation Project, Construction and Operation of Independent Spent Fuel Storage Installation and Related Transportation Facilities, Permits and Approvals, Tooele County, UT, Wait Period Ends: February 19, 2002, Contact: Chester Poslusny, Jr (301) 415-1341.

EIS No. 020020, FINAL SUPPLEMENT, FTA, CA, Los Angeles Eastside Corridor Transit Improvements, Light Rail Transit (LRT) Selected Build Alternative Options A and B, Los Angeles Central Business District to just east of Atlantic Boulevard, Funding, NPDES and US Army COE Section 404 Permits, Los Angeles County, CA, Wait Period Ends: February 19, 2002, Contact: Erv Poka (213) 202-3952.

EIS No. 020021, FINAL EIS, COE, PA, Dents Run Watershed Ecosystem Restoration, Construction and Operation of Six Acid Mine Drainage Abatement Projects, Implementation, Benezette Township, Susquehana River Basin, Elk County, PA, Wait Period Ends: February 19, 2002, Contact: Greg Nielson (410) 962-6782.

Dated: January 15, 2002.
Joseph C. Montgomery,
Director, NEPA Compliance Division, Office of Federal Activities.

[FR Doc. 02-1344 Filed 1-17-02; 8:45 am]

BILLING CODE 6560-50-P